DEPARTMENT OF THE INTERIOR

Bureau of Land Management

[LLCAN01000.L18200000.XZ0000; 13-00160-ILM]

Notice of Public Meeting: Joint session of Northeast California Resource Advisory Council and Northwest California Resource Advisory Council, and Individual Council Meetings

AGENCY: Bureau of Land Management, Interior.

ACTION: Notice of public meetings.

SUMMARY: In accordance with the Federal Land Policy and Management Act of 1976 (FLPMA), and the Federal Advisory Committee Act of 1972 (FACA), the U.S. Department of the Interior, Bureau of Land Management (BLM) Northeast California Resource Advisory Council and Northwest California Resource Advisory Council will meet jointly and individually, as indicated below, in Weaverville, Calif.

DATES: On Tuesday, June 11, 2013, the Northeast California RAC will meet from 1 to 5 p.m. Public comments will be accepted at 4 p.m. On Wednesday, June 12, 2013, the Northeast California RAC and Northwest California RAC will convene at 8 a.m. for a field tour of public lands managed by the BLM. The councils will convene a joint business meeting at 1 p.m. and accept public comments at 4 p.m. On Thursday, June 13, 2013, the Northwest California RAC will convene at 8 a.m. Public comments will be accepted at 11 a.m. All meetings and the field tour will convene at the Weaverville VFW Hall, 201 Memorial St.

FOR FURTHER INFORMATION CONTACT: Nancy Haug, BLM Northern California District manager, (530) 224-2160; or Joseph J. Fontana, BLM public affairs officer, (530) 252-5332.

SUPPLEMENTARY INFORMATION: These councils advise the Secretary of the Interior, through the BLM, on public land planning and resource management issues in northern California and far northwest Nevada. Agenda items for the Northeast California RAC meeting include the RAC's role in BLM resource management plan amendments for sage grouse conservation, a status report on wildfire recovery efforts and a discussion of major resource issues affecting the Alturas, Eagle Lake and Surprise field offices. Agenda items for the joint session include BLM partnerships, major BLM initiatives and future RAC work. Agenda items for the Northwest California RAC include work planning, off highway vehicle recreation management, the BLM-California State Parks Coastal Collaborative, land use planning issues and management of the California Coastal National Monument. The council will accept public comments as indicated above. Depending on the number of persons wishing to speak, and the time available, the time for individual comments may be limited. Members of the public are welcome on the field tour. They must provide their own transportation, food and beverages. Individuals who plan to attend and need special assistance, such as sign language interpretation and other reasonable accommodations, should contact the BLM as provided above.

Dated: May 3, 2013.
Joseph J. Fontana,
Public Affairs Officer.

[FR Doc. 2013-11534 Filed 5-14-13; 8:45 am]

BILLING CODE 4310-40-P